DEPARTMENT OF THE INTERIOR

National Park Service

Right of Way Request, Environmental Assessment or Environmental Impact Statement, Chesapeake and Ohio Canal National Historical Park

AGENCY: National Park Service, Department of Interior.

ACTION: Notice of intent to prepare either an environmental assessment or environmental impact statement on a request by Duke Energy Frederick, LLC for a right-of-way permit for water conveyance pipelines associated with a proposed electric power plant.

SUMMARY: The National Park Service (NPS) is evaluating a right-of-way (ROW) request by Duke Energy Frederick, LLC, of Houston, Texas, for construction of two pipelines across the Chesapeake and Ohio Canal National Historical Park (C&O Canal NHP). The four alternative locations proposed for the placement of the ROW are between mileposts 45 and 47 along the canal near the community of Point of Rocks in Frederick County, Maryland. Each of the alternatives is approximately 60 feet in width by 300 feet to 1150 feet in length. The power generating facility itself is not adjacent to the park but is approximately 7,700 feet from the park boundary. The proposed power generating facility is subject to licensing and permitting by the state of Maryland.

The proposed pipelines will provide water for cooling and other purposes for two gas and one steam turbine generators with a combined output of 640 MW. One 24-inch raw water pipeline will withdraw a maximum of 7.5 million gallons per day from the Potomac River while a second 10-inch pipeline will return approximately 0.8 million gallons per day.

Consistent with the requirements of the National Environmental Policy Act of 1969 (NEPA), NPS is soliciting comments from concerned parties respecting the proposed right-of-way permit's potential effects on the quality of the human environment. NPS will consider the comments from this scoping process in determining whether to prepare an Environmental Assessment (EA) or Environmental Impact Statement (EIS) on this right-of-way application. Should NPS choose to prepare an EIS, notice of this decision will be published in the Federal Register. In this event, the NPS will invite additional comments. However, persons commenting on this notice would not need to provide additional or duplicate comments.

NPS's environmental analysis will identify the reasonably foreseeable direct, indirect and cumulative effects of the proposed right-of-way permit, and will develop and evaluate alternatives to address NPS natural resource, cultural resource and visitor use concerns. Alternatives may include mitigation and measures necessary to avoid adverse impacts to park values and purposes, including natural and cultural resources.

NPS will consult with State and federal agencies including the Maryland departments of Environment and Natural Resources, the U.S. Fish and Wildlife Service, the Army Corps of Engineers, the State Historical Trust and other interested parties during the NEPA compliance process. NPS will, to the greatest extent practicable, coordinate its activities with other agencies to avoid unnecessary duplication.

A fact sheet and map describing this proposed action will be available for public review and comment. Public meetings will be held in the vicinity of the proposed project during the scoping period. In addition to describing the proposed action the fact sheet will contain a map showing alternative locations identified to date and indicate when and where public meetings will be held. A press release will further notify interested persons and groups that this information is available. The public may request this information by contacting the superintendent at the address below

DATES: The scoping and comment period will end 45 days from the date of publication in the Federal Register.

FOR FURTHER INFORMATION, CONTACT: Individual copies of the Fact Sheet can be requested by writing to Park Superintendent, 1850 Dual Highway, Suite 100, Hagerstown, MD 21740. Identical information is available on the park's Internet page at http://www.nps.gov/choh.

Douglas D. Faris,
Superintendent, C&O Canal National Historical Park.

[FR Doc. 02-23370 Filed 9-12-02; 8:45 am]

BILLING CODE 4310-70-P